GENERAL SERVICES ADMINISTRATION

DEPARTMENT OF ENERGY

National Nuclear Security Administration

[PBS-N04]

Finding of No Significant Impact; Modernization of Facilities and Infrastructure for the Non-Nuclear Production Activities Conducted at the National Nuclear Security Administration's Kansas City Plant Environmental Assessment (DOE/EA-1592)

AGENCY: General Services Administration and National Nuclear Security Administration, Department of Energy.

ACTION: Finding of No Significant Impact.

SUMMARY: The General Services Administration (GSA) and the Department of Energy/National Nuclear Security Administration (NNSA) issue this Finding of No Significant Impact (FONSI) on their proposal to relocate certain non-nuclear component production and procurement activities to a smaller, more efficient and flexible facility. This FONSI is based on the General Services Administration/National Nuclear Security Administration “Modernization of Facilities and Infrastructure for the Non-Nuclear Production Activities Conducted at the National Nuclear Security Administration's Kansas City Plant Environmental Assessment” (EA), DOE/EA-1592, April 21, 2008. The EA was prepared pursuant to the National Environmental Policy Act (NEPA) of 1969 (42 U.S.C. §§ 4321 et seq.), regulations implementing NEPA issued by the Council on Environmental Quality (40 C.F.R. Parts 1500—1508), and the NEPA implementing procedures of GSA (ADM 1095.1F) and the Department of Energy (10 C.F.R. Part 1021).

The selected alternative is for GSA to procure the construction of a new facility at the intersection of Botts Road and Missouri Highway 150 in Kansas City, Missouri. GSA would lease the facility on NNSA's behalf, and NNSA would move its operations from the Bannister Federal Complex to the new facility, and conduct production and procurement operations for electrical and mechanical non-nuclear components there (the phrase “electrical and mechanical” non-nuclear components, as used in the EA and this FONSI, also includes electronics, electromechanical parts, and engineered materials such as plastics, ceramics, glass, polymers and foams). The NNSA's Kansas City Plant (KCP) performs these activities for NNSA, Department of Energy (DOE) programs, and other federal agencies (“work for others”).

FOR FURTHER INFORMATION CONTACT: Further information, including an electronic copy of the EA, FONSI, Mitigation Action Plan, and other supporting NEPA documents, will be made available on the following Web site: http://www.gsa.gov/kansascityplant. The EA and FONSI will also be made available at: http://eh.doe.gov/nepa.

Requests for copies of the EA and FONSI may be sent to: Carlos Salazar, General Services Administration, 1500 East Bannister Road, Room 2191 (6PTA), Kansas City, MO 64131. Requests for copies of the EA and FONSI may also be made by calling (816) 823-2305 or via e-mail to NNSA—KC@gsa.gov.

SUPPLEMENTARY INFORMATION: The GSA and NNSA issued a Notice of Intent (NOI) on May 1, 2007 in the Federal Register (Vol. 72, No 83, page 23822) informing the public of the proposed action and inviting public comments on the scope of the EA. The NOI also stated that a public scoping meeting would be held in Kansas City, on May 23, 2007. A total of 97 people signed in at the public meeting. Fourteen written comments were submitted and 24 speakers provided comments that were transcribed for the record. Everyone who requested to speak was provided the opportunity to do so. Additional public comments were received by mail and email during the scoping period, which ended on May 30, 2007. Approximately 500 people provided comments during the public scoping process. All comments were considered during the preparation of the draft EA. A copy of the transcript from the scoping meeting is available on the GSA website by following the “NEPA library” link (www.gsa.gov/kansascityplant).

On December 10, 2007, the GSA and NNSA issued a Notice of Availability (NOA) of the draft EA in the Federal Register (Vol. 72, No 236, page 69690) informing the public that the draft EA was available for review and comment. The NOA stated that the deadline for submission of public comments was January 14, 2008. An electronic copy of the draft EA and other supporting documents were posted on the GSA website. An electronic copy of the draft EA was also posted on the DOE website.

On January 14, 2008, the GSA and NNSA notified the public through the website that they were extending the public comment period until January 30, 2008. On January 17, 2008, the federal agencies issued a Notice of Extension of Comment Period in the Federal Register (Vol. 73, No 12, page 3256) informing the public of the extension. More than 250 public comments on the draft EA were submitted to GSA and NNSA. After considering all the comments received as a result of the public review process, including those received after the formal comment period closed, GSA and NNSA have made significant revisions to the EA, including the analysis of additional alternatives outside of the Kansas City area (i.e. at NNSA's Los Alamos National Laboratory and Sandia National Laboratories in New Mexico and Lawrence Livermore National Laboratory in California).

Because the draft EA only analyzed alternatives in the State of Missouri, in December 2007, the GSA and NNSA specifically requested the State of Missouri to review and comment on the draft EA (although other states had the opportunity to comment through the public comment process). On April 4, 2008, the GSA and NNSA provided a pre-approval review copy of the EA, containing the analysis of additional alternatives outside of the Kansas City area, to the States of Missouri, New Mexico, and California, and requested comments by April 18, 2008. Comments were received by this date from Missouri. These comments were considered in preparing the final EA and FONSI.

Based on the analysis in the EA and after considering all the comments received as a result of the review process, the GSA and NNSA have concluded that no information has been made available that is inconsistent with a finding of no significant impact.

PURPOSE AND NEED: The KCP produces and procures electrical and mechanical non-nuclear components for nuclear weapons; these constitute approximately 85 percent of all the components in a nuclear weapon. As a result of consolidation activities undertaken over the last 15 years by the Department of Energy, the remaining operations at KCP are essential and do not duplicate operations at other sites in the nuclear weapons complex. KCP occupies a large and aging industrial complex in Kansas City located on a site contiguous with GSA facilities. Despite the reductions and consolidations that followed a 1996 decision to downsize KCP's facilities and operations, the current plant is still much larger than NNSA requires, primarily due to continuing reductions in the nuclear weapons stockpile and outsourcing of some fabrication activities. The cost of operating KCP is increasing because of its age and size.

DESCRIPTION OF THE PROPOSED ACTION: NNSA and GSA propose to relocate NNSA's KCP operations to a new facility that NNSA would operate to produce and procure electrical and mechanical non-nuclear components. The proposed facility would be smaller and designed for rapid reconfiguration to improve efficiency and provide flexibility in meeting changing requirements and demands. It would be at least 50% smaller than the current facility, resulting in reduced maintenance and energy costs while improving the responsiveness and facility utilization for the supply of electrical and mechanical non-nuclear components. The proposed action considered in the EA consists of the construction and subsequent operation of such a facility.

Selected Alternative (Alternative 5): The selected alternative is for GSA to procure the construction of a new facility and for NNSA to relocate to and operate the facility for production and procurement of electrical and mechanical non-nuclear components. The new facility would be located on approximately 185 acres at the intersection of Missouri Highway 150 and Botts Road in Kansas City, Missouri, about eight miles south of the existing plant. The proposed facility would cover up to 1.4 million rentable square feet and provide up to 2,900 surface parking spaces (for a total of about 45 acres). GSA has issued a Solicitation for Offers to the real estate development community; the successful developer would partner with GSA and NNSA to design and construct a facility that meets NNSA's needs. GSA would lease the facility on NNSA's behalf and NNSA would move its operations from the Bannister Federal Complex to the new facility and conduct production and procurement operations for electrical and mechanical non-nuclear components there.

Alternatives: In addition to the selected alternative (Alternative 5) and the “No Action” Alternative (Alternative 1), which evaluates continuing operations in the existing Kansas City Plant facilities, the EA evaluates the following alternatives:

Alternative 2: Under this alternative, the existing GSA office and warehouse space (Buildings #1 and #2) located on the western portion of the Bannister Federal Complex would be renovated. NNSA's operations would relocate to the renovated facility.

Alternative 3: This alternative consists of renovation of the existing GSA office space (Building #2) and demolition of the existing GSA warehouse (Building #1) and the small outbuildings located north of the existing GSA warehouse. A new manufacturing, laboratory, and warehouse facility would be constructed adjacent to the renovated office space.

Alternative 4: This alternative consists of demolishing the existing GSA office and warehouse spaces (Buildings #1 and #2) and the small outbuildings located north of the existing GSA warehouse. Following demolition, new office and manufacturing facilities would be constructed on GSA's portion of the Bannister Federal Complex.

Alternative 6: This alternative evaluates moving KCP's operations to Sandia National Laboratories in Albuquerque, NM (SNL/NM). For this alternative, two options are evaluated: (1) a new construction option, in which a new facility covering approximately 1.4 million square feet would be constructed and operated similar to the selected alternative; and (2) a reuse/new construction option consisting of existing space in SNL/NM facilities and a smaller new facility.

Alternative 7: This alternative evaluates moving KCP's operations to Lawrence Livermore National Laboratory in Livermore, California. Under this alternative, a new 1.4 million square foot facility would be constructed and operated similar to the selected alternative.

Alternative 8: This alternative evaluates moving KCP's operations to Los Alamos National Laboratory in Los Alamos, New Mexico. For this alternative, two options are evaluated: (1) a new construction option, in which a new 1.4 million square foot facility would be constructed and operates similar to the selected alternative; and (2) a reuse/new construction option consisting of existing facilities and a smaller new facility.

ENVIRONMENTAL CONSEQUENCES OF SELECTED ALTERNATIVE: Based on the analysis in the EA, the selected alternative would not have a significant effect on the human environment within the meaning of NEPA. The term “significantly” and the significance criteria are defined by the Council on Environmental Quality (CEQ) regulations for implementing NEPA at 40 C.F.R. § 1508.27.

Beneficial and Adverse Impacts (40 C.F.R. § 1508.27(b)(1)): The selected alternative would provide a smaller facility designed for rapid reconfiguration to improve efficiency and provide flexibility in meeting changing requirements and demands. Maintenance and energy costs would be reduced, while the responsiveness and facility utilization for the supply of electrical and mechanical non-nuclear components to NNSA would be improved. The analysis indicates that there will not be any significant adverse impacts from implementing the selected alternative (EA Section 5.3).

Public Health and Safety (40 C.F.R. § 1508.27(b)(2)):

Air Emissions (EA Section 5.3.6): During site preparation, construction, and road improvements the use of heavy equipment would generate combustion engine exhaust containing air pollutants associated with diesel combustion (nitrogen oxides (NOx), carbon monoxide (CO), sulfur oxides (SOx), particulate matter less than 10 microns (PM10), and volatile organic compounds (VOCs)). Similar air emissions would be generated from delivery vehicles bringing supplies and equipment to the construction site and from construction workers commuting in their personal vehicles. Emissions from site preparation and construction would be short-term, sporadic, and localized (except for emissions associated with the personal vehicles of construction workers and vehicles transporting construction materials and equipment). The quantities of air pollutants produced by vehicles and equipment associated with construction would not be a substantial contribution to the total emissions from mobile sources already operating in the area and would not adversely affect local air quality.

Construction activities could increase the potential for fugitive dust (i.e. airborne particulate matter that escapes from a construction site) from earthwork and other construction vehicle movement. Not all of the area available for construction would be under construction at any one time. Control measures for lowering fugitive dust emissions (i.e. water or chemical dust suppressants) would be implemented to prevent offsite emissions. Construction activities would be in accordance with permits from local, state and federal jurisdictions and would not significantly impact public health and safety.

The total estimated annual air emissions from operating a new NNSA facility at the selected site are expected to be 12.8 tons, consisting of approximately 10.4 tons of NOx, SOx and CO from the boilers and process heaters, 2.0 tons of VOCs from electronic component solvent spray cleaning operations, and 0.4 tons of VOCs from painting operations. This is approximately 28% less than the annual air emissions from the current facility, and would not significantly impact public health and safety.

Noise: At 400 feet from the construction site, construction noise would range from 55-85 dBA. Given that the distance from the site boundary to the nearest business or residence is greater than 400 feet, there would be no significant noise impacts as a result of construction activities, except for a small increase in traffic noise levels from construction employees and material shipments, and short-term increases in noise levels at or near the site boundary from site preparation and infrastructure construction activities such as driveway construction and site grading. Noise from operations is expected to be similar to those from existing operations and would be far enough away from offsite areas that its contribution to offsite noise levels would be small. Noise from the selected alternative would not significantly impact public health and safety (EA Section 5.3.8).

Solid Waste: Waste generation resulting from the selected alternative is not expected to significantly impact public health and safety (EA Section 5.3.5).

Construction activities are expected to generate approximately 6,890 cubic yards of non-hazardous solid waste.

The hazardous waste disposal rate from operations is anticipated to be approximately 26,000 lbs/year, a 30% reduction from current operations at the Bannister Federal Complex due to process improvements and outsourcing. Non-hazardous waste is also expected to experience a similar reduction (to approximately 1.6 million lbs/year) due to the smaller operations and reduced facility refurbishments. Low-level radioactive waste generation is projected to be consistent with current generation rates of approximately 40 lbs per year.

All waste materials would be transported off-site for disposal in accordance with federal, state and local requirements. The number of shipments may be reduced compared to current operations at the Bannister Federal Complex due to the reduction in waste generation.

Groundwater: The proposed facility design does not include the use of underground storage tanks, and all proposed above-ground storage tanks would be constructed with secondary containment. Industrial facilities would be constructed and managed to ensure materials (raw, intermediate and final product, and wastes) and activities are completely sheltered from stormwater. Adverse impacts to groundwater from proposed site operations are not anticipated (EA Section 5.3.2).

Unique characteristics of the geographical area (40 C.F.R. § 1508.27(b)(3)):

Prime Farmland: Though currently used for agricultural purposes, the location of the selected alternative is identified as part of an “urbanized area” on Census Bureau maps and is not considered prime farmland (EA Section 5.3.1).

Impact to Wetlands: Based upon a preliminary jurisdictional waters determination, non-jurisdictional wetlands and potential jurisdictional tributaries and wetlands exist onsite. Mitigation of impacts to non-jurisdictional wetlands will take place in accordance with Executive Order 11990, Protection of Wetlands, and to jurisdictional waters in accordance with the Clean Water Act Section 404 permitting process, which requires avoidance of wetlands impacts, minimization of potential impacts on wetlands, and compensation for any remaining unavoidable impacts. A wetland assessment was completed in accordance with the requirements of 10 C.F.R. Part 1022, Compliance with Floodplain and Wetland Environmental Review Requirements, based on a conservative impact scenario.

NNSA found that no practicable alternative to locating the action in the wetland is available. Therefore, the wetland assessment considered specific constraints and provisions for mitigation that will be placed on the developer of the site through both the Section 404 permit and the contract with GSA. Although the actual impacts cannot be precisely quantified until a site plan is finalized, impacts to the site are expected to be less than assessed in this analysis of the conservative scenario.

The contract issued by GSA will require the developer to address the management of any wetlands (jurisdictional and non-jurisdictional) on the site in accordance with Executive Order 11990 and Section 404 permitting. The appropriate federal agency will ensure that mitigation commitments are maintained during operation of the facility.

The GSA submitted a Section 404 permit application to the U.S. Army Corps of Engineers (USACE) on April 1, 2008, based on a conservative impact scenario. Under this scenario, the proposed action would impact, permanently, 0.099 acres (3,655 linear feet (l.f.)) of intermittent tributaries, 0.097 acres (3,440 l.f.) of ephemeral tributaries, and 1.24 acres of wetlands. In the permit application, a conceptual Mitigation Plan was proposed for the permanently impacted intermittent and ephemeral tributaries (7,095 l.f., 0.2 acres) and the 1.24 acres of permanently impacted wetlands. The features of the plan include:

On-site Stream Mitigation: The credits required to offset impacts would be generated by on-site riparian buffer enhancement of 952 l.f. of intermittent tributary and 494 l.f. of ephemeral tributary. The corridor would be 50-feet wide on each side of the tributaries. Enhancement activities would include nuisance species control, deed restrictions, 10 to 50 percent plantings, native grass seeding, timber thinning, maintenance, and monitoring. The remaining credits would, in part, be done through relocation and restoration of some tributaries and would include in-stream features and minimum 50-foot-wide riparian buffer.

Off-Site Stream Mitigation: Any remaining stream credits would be mitigated for by identifying an off-site mitigation project and/or enrollment into a USACE-approved in-lieu fee program.

Wetland Mitigation: Wetland impacts would be mitigated on-site by 1.24 acres of in-kind wetland creation or restoration. On-site created wetlands would be deed restricted.

Based on the small relative size of the wetlands (less then 1.5 acres combined) and the requirements imposed by the Section 404 permitting process, the impact to wetlands would not be significant (EA Section 5.3.3).

Degree to which the effects on the quality of the human environment are likely to be highly controversial (40 C.F.R. § 1508.27(b)(4)): The analysis in the EA indicates that the selected alternative will result in no significant impacts in the quality of the human environment. The vast majority of public comment focused on nuclear weapons policy and procedural issues. Only a small number of comments were received regarding the potential environmental impacts of the preferred alternative. These comments are addressed in Appendix B, Issue Analysis of Public Comments, including: Issue #6, Workforce Reductions; Issue #11, Stormwater Quality; Issue #12, Air Quality, Issue #13, Health and Safety; Issue #15, Transportation; Issue #16, Hazard Analysis; Issue #18(d), Building 50 Characterization; Issue #18(e), Potential Groundwater Impacts with Onsite Alternatives; and Issue #18(g), Environmental Justice.

Uncertain or unknown risks to the human environment (40 C.F.R. § 1508.27(b)(5)): No chemicals have been identified that would be a risk to members of the public from construction activities associated with a new non-nuclear facility. The KCP is considered a low-hazard industrial facility and operations at the KCP involve hazards of the type and magnitude routinely encountered in industry and generally accepted by the public. Intentional destructive acts at the proposed new facility (e.g. terrorism, internal sabotage) would have a low potential to impact security, public health and safety. There are no uncertain or unknown risks associated with implementing the selected alternative (EA Section 5.3).

Precedent for future actions (40 C.F.R. § 1508.27(b)(6)): The selected alternative does not set a precedent for future actions.

Cumulatively significant impacts (40 C.F.R. § 1508.27(b)(7)): There would be no significant cumulative impacts associated with implementing the selected alternative:

Growth in the area of the preferred alternative site is expected to change the character of the surrounding area from generally open/agricultural with sporadic industrial, to more industrial. This growth has been anticipated and is desired by local and state governments. The selected alternative is consistent with this transition in land use but the proposal would not be a primary, or significant, contributor to the overall change in land use (EA Section 5.3.10).

Commercial development currently ongoing and planned in the area of the selected option will likely result in an increase in daily traffic on Missouri Highway 150 and adjacent roadways, to which the selected alternative would contribute. Due to the small contribution of traffic flow to the area attributed to the selected alternative, the proposed action will not be a primary or significant contributor to the overall change in traffic patterns or road use. Furthermore, the Missouri Department of Transportation and the City of Kansas City, Missouri, are currently working on road improvement projects in the site vicinity which will mitigate the increased projected traffic load resulting from development in the area (EA Section 5.3.10).

Development in the area of the selected alternative may result in an increase of stormwater runoff into the Little Blue River Watershed. For the selected alternative, the City of Kansas City is responsible for stormwater management, planning, and permitting, and all individual developers in the area of the selected site are required by code to mitigate impacts of stormwater runoff and adhere to local building codes for storm drainage systems and facilities. The developer will also be required to incorporate design features to maintain or restore predevelopment hydrology pursuant to Section 438 of the Energy Independence and Security Act of 2007. Cumulative stormwater impacts are not considered to be a significant environmental impact (EA Section 5.3.10).

Effect on historical or cultural resources (40 C.F.R. § 1508.27(b)(8)): A Cultural Resource Assessment did not identify specific areas of concern within the selected site, and no previously recorded archeological sites are located within the project area. In the event that items of archeological significance are found during site excavation, the developer would be directed to stop the excavation in the vicinity of the find and notify the GSA Contracting Officer immediately so that the government can coordinate with the appropriate State Historic Preservation Office officer. The developer would be required to comply with applicable local, state, and federal laws with regard to archeological findings. No adverse impacts to historical or cultural resources are expected as a result of the selected alternative (EA Section 5.3.7).

Effect on endangered or threatened species or critical habitat (40 C.F.R. § 1508.27(b)(9)): The majority of the 185 acres located at the selected site are currently developed for agricultural usage (with scattered stands of trees and vegetated areas). There are no records of species or habitats of federal or state conservation concern within one mile of the site. No threatened or endangered species are known to occupy the site. The selected alternative would not have an effect on threatened or endangered species or critical habitat (EA Section 5.3.4).

Violation of Federal, State, or local law (40 C.F.R. § 1508.27(b)(10)): The selected alternative would not violate any federal, state of local laws imposed for the protection of the environment.

DETERMINATION:

NNSA adopts the EA as a basis for its decision-making.In accordance with the National Environmental Policy Act; GSA Order ADM 1095.1F, implementing the regulations of the Council on Environmental Quality (40 C.F.R. 1500-1508); and DOE's NEPA implementing regulations (10 C.F.R. Part 1021); and based on the analysis in Environmental Assessment DOE/EA—1592, GSA and NNSA find that the Modernization of Facilities and Infrastructure for the Non-Nuclear Production Activities Conducted at the National Nuclear Security Administration's Kansas City Plant Project is not a major federal action significantly affecting the quality of the human environment within the meaning of the National Environmental Policy Act of 1969. Therefore, the preparation of an Environmental Impact Statement is not required and GSA and NNSA are issuing this FONSI for the Proposed Action.

Key stipulations set forth in the Environmental Assessment include the following measures that will be implemented to reduce any impacts the selected alternative may have on the quality of the human environment: Adherence to commitments outlined in the Mitigation Action Plan. The Mitigation Action Plan contains mitigation and monitoring commitments for the project, including commitments set (or that would be set) in any permits. As details of specific mitigation actions are developed, or as additional mitigation measures necessary to produce the results committed to by GSA or NNSA are identified, the Mitigation Action Plan will be updated.

General Services Adminstration:

APPROVED BY:

Dated: April 21, 2008.
Bradley M. Scott,
Regional Administrator, GSA Region 6.
and
Dated: April 21, 2008.
Steve C. Taylor,
Manager, NNSA, Kansas City Site Office.

[FR Doc. E8-9322 Filed 4-28-08; 8:45 am]

BILLING CODE 6820-CG-S